ENVIRONMENTAL PROTECTION AGENCY

[EPA-HQ-OECA-2014-0033; FRL-9985-27-OEI]

Information Collection Request Submitted to OMB for Review and Approval; Comment Request; NSPS for Petroleum Refineries (Renewal)

AGENCY: Environmental Protection Agency (EPA).

ACTION: Notice.

SUMMARY: The Environmental Protection Agency (EPA) has submitted an information collection request (ICR), NSPS for Petroleum Refineries (EPA ICR No. 1054.13, OMB Control No. 2060-0022), to the Office of Management and Budget (OMB) for review and approval in accordance with the Paperwork Reduction Act. This is a proposed extension of the ICR, which is currently approved through November 30, 2018. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before December 13, 2018.

ADDRESSES: Submit your comments, referencing Docket ID Number EPA-HQ-OECA-2014-0033, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for Petroleum Refineries were proposed on June 11, 1973, promulgated on March 8, 1974, and amended on both September 12, 2012 and December 1, 2015. The 2015 amendment finalized technical clarifications to improve consistency and clarity and to address issues related to a 2008 industry petition for reconsideration. The 2012 amendment allowed the option for affected sources to comply with Subpart J by following the applicable provisions in the NSPS Subpart Ja rule. The affected sources are: (1) Fluid catalytic cracking unit (FCCU) catalyst regenerator or fuel gas combustion device (FGCD) other than a flare that commenced construction, reconstruction or modification after June 11, 1973 and on/or before May 14, 2007; (2) FGCD that is also a flare that commenced construction, reconstruction or modification after June 11, 1973 and on/or before June 24, 2008; or (3) any Claus sulfur recovery plant with a design capacity of more than 20 long tons per day sulfur feed which commenced construction, reconstruction or modification after October 4, 1976 and on/or before May 14, 2007.

In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance with 40 CFR part 60, subpart J.

Form Numbers: None.

Respondents/affected entities: Petroleum refineries.

Respondent's obligation to respond: Mandatory (40 CFR part 60, subpart J).

Estimated number of respondents: 149 (total).

Frequency of response: Initially, occasionally, and semiannually.

Total estimated burden: 15,800 hours (per year). Burden is defined at 5 CFR 1320.3(b).

Total estimated cost: $2,500,000 (per year), which includes $826,000 annualized capital/startup and/or operation & maintenance (O&M) costs.

Changes in the Estimates: There is an increase in labor hours from the most-recently approved ICR due to an adjustment. The total hours include an hour allowance to allow each source to familiarize themselves with the requirements each year. Finally, there is slight increase in the O&M costs, as costs were adjusted from $2,005.00 to $2,016.00 using the Chemical Engineering Index.

Courtney Kerwin,
Director, Regulatory Support Division.

[FR Doc. 2018-24652 Filed 11-9-18; 8:45 am]

BILLING CODE 6560-50-P